NATIONAL SCIENCE FOUNDATION

Notice of Permit Applications Received Under the Antarctic Conservation Act of 1978 (Pub. L. 95-541)

AGENCY: National Science Foundation

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by June 16, 2014. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2015-001

1. Applicant: Robert Pitman, NOAA, NMFS, Southwest Fisheries Science Center, 8901 La Jolla Shores Dr, La Jolla CA USA 92037

Activity for Which Permit Is Requested

Take and import into the U.S. The applicant's study of movement patterns, diet preferences, and genetics of whales calls for collecting pencil eraser size tissue samples from up to 200 killer whales (Orcinus orca), 15 common minke whales (Balaenoptera acutorostrata), 10 Arnoux's beaked whales (Berardius arnuxii), 15 blue whales (Balaenoptera musculus), 50 Antarctic minke whales (Balaenoptera bonaerensis), 10 southern right whales (Eubalaena australis), 35 sperm whales (Physeter macrocephalus), 35 fin whales (Balaenoptera physalus), and 50 humpback whales (Megaptera movaengliae) of both sexes. The tissue samples will be used in food and habitat studies (using stable isotopes and fatty acids). The same samples will also be used to determine genetic distinctness of the different killer whale types in Antarctica. Tissue samples will be imported to the U.S. for analysis at the Southwest Fisheries Science Center. Small (ca 40g) satellite tags or suction cup tags will be attached to some whales to investigate movement patterns. Whales will also be photographed for photo identification purposes. Additionally, dead marine birds or mammals and parts thereof from killer whale kills will be salvaged, when possible, for identification and to determine baseline environmental chemical composition.

Location

Southern Ross Sea, Antarctic Peninsula.

Dates

October 1, 2014 to October 1, 2020.

Nadene G. Kennedy,
Polar Coordination Specialist, Division of Polar Programs.

[FR Doc. 2014-11372 Filed 5-15-14; 8:45 am]

BILLING CODE 7555-01-P